DEPARTMENT OF LABOR

Employment and Training Administration

[TA-W-62,404]

Motor Wheel Commercial Vehicle Systems Full Cast/Assembly Area, Berea, KY; Notice of Revised Determination on Reconsideration

On January 30, 2008, the Department issued an Affirmative Determination Regarding Application for Reconsideration regarding eligibility to apply for Alternative Trade Adjustment Assistance (ATAA) applicable to workers and former workers of Motor Wheel Commercial Vehicle Systems, Full Cast/Assembly Area, Berea, Kentucky (the subject firm). The Department's Notice of affirmative determination was published in the Federal Register on February 7, 2008 (73 FR 7317).

The request for reconsideration alleged that the skills of the worker group are not easily transferable to other positions in the local commuting area. Certification regarding eligibility to apply for Trade Adjustment Assistance (TAA) applicable to workers and former workers of the subject firm was issued on November 30, 2007.

During the reconsideration investigation, the Department received new information which indicated that, within the subject firm's local commuting area, the subject workers' skills are not easily transferable to other positions.

During the reconsideration investigation, the Department also confirmed that a significant number of workers at the firm are age 50 or over and that competitive conditions within the industry are adverse.

Conclusion

After careful review of the information obtained in the reconsideration investigation, I determine that workers and former workers of the subject firm have met the group eligibility criteria for Section 246 the Trade Act of 1974 (26 U.S.C. 2813), as amended. In accordance with the provisions of the Act, I make the following certification:

All workers of Motor Wheel Commercial Vehicle Systems, Full Cast/Assembly Area, Berea, Kentucky, who became totally or partially separated from employment on or after October 28, 2006 through November 30, 2009, are eligible to apply for alternative trade adjustment assistance under section 246 of the Trade Act of 1974.

Signed at Washington, DC, this 12th day of February 2008.
Elliott S. Kushner,
Certifying Officer, Division of Trade Adjustment Assistance.

[FR Doc. E8-3220 Filed 2-21-08; 8:45 am]

BILLING CODE 4510-FN-P